DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed reinstatement of the “National Longitudinal Survey of Youth 1979.” A copy of the proposed information collection request (ICR) can be obtained by contacting the individual listed in the ADDRESSES section of this notice.

DATES: Written comments must be submitted to the office listed in the ADDRESSES section below on or before June 15, 2009.

ADDRESSES: Send comments to Carol Rowan, BLS Clearance Officer, Division of Management Systems, Bureau of Labor Statistics, Room 4080, 2 Massachusetts Avenue, NE., Washington, DC 20212, 202-691-7628. (This is not a toll free number.)

FOR FURTHER INFORMATION CONTACT: Carol Rowan, BLS Clearance Officer, 202-691-7628. (See ADDRESSES section.)

SUPPLEMENTARY INFORMATION:

I. Background

The National Longitudinal Survey of Youth 1979 (NLSY79) is a representative national sample of persons who were born in the years 1957 to 1964 and lived in the U.S. in 1978. These respondents were ages 14 to 22 when the first round of interviews began in 1979; they will be ages 45 to 54 when the planned twenty-fourth round of interviews is conducted from December 2009 to March 2011. The NLSY79 was conducted annually from 1979 to 1994 and has been conducted biennially since 1994. The longitudinal focus of this survey requires information to be collected from the same individuals over many years in order to trace their education, training, work experience, fertility, income, and program participation.

In addition to the main NLSY79, the biological children of female NLSY79 respondents have been surveyed since 1986, when the National Institute of Child Health and Human Development began providing funding to the BLS to gather a large amount of information about the lives of these children. A battery of child cognitive, socio-emotional, and physiological assessments has been administered biennially since 1986 to NLSY79 mothers and their children. Starting in 1994, children who had reached age 15 by December 31 of the survey year (the Young Adults) were interviewed about their work experiences, training, schooling, health, fertility, self-esteem, and other topics. The BLS contracts with the National Opinion Research Center (NORC) at the University of Chicago to conduct the NLSY79 and associated Child and Young Adult surveys.

One of the goals of the Department of Labor (DOL) is to produce and disseminate timely, accurate, and relevant information about the U.S. labor force. The BLS contributes to this goal by gathering information about the labor force and labor market and disseminating it to policymakers and the public so that participants in those markets can make more informed, and thus more efficient, choices. Research based on the NLSY79 contributes to the formation of national policy in the areas of education, training, employment programs, and school-to-work transitions. In addition to the reports that the BLS produces based on data from the NLSY79, members of the academic community publish articles and reports based on NLSY79 data for the DOL and other funding agencies. To date, more than 1,500 articles examining NLSY79 data have been published in scholarly journals. The survey design provides data gathered from the same respondents over time to form the only data set that contains this type of information for this important population group. Without the collection of these data, an accurate longitudinal data set could not be provided to researchers and policymakers, thus adversely affecting the DOL's ability to perform its policy- and report-making activities.

II. Current Action

The BLS seeks approval to conduct the round 24 interviews of the NLSY79 and the associated surveys of biological children of female NLSY79 respondents. The NLSY79 Child Survey involves three components:

• The Mother Supplement is administered to female NLSY79 respondents who live with biological children under age 15. This questionnaire will be administered to about 635 women, who will be asked a series of questions about each child under age 15. On average, these women each have about 1.26 children under age 15, for a total of approximately 800 children.

• The Child Supplement involves aptitude testing of about 720 children under age 15.

• The Child Self-Administered Questionnaire is administered to approximately 540 children ages 10 to 14.

In addition to the main NLSY79 and Child Survey, the Young Adult Survey will be administered to approximately 6,140 youths ages 15 and older who are the biological children of female NLSY79 respondents. These youths will be contacted for an interview regardless of whether they reside with their mothers. The NLSY79 Young Adult Survey involves two components:

• The Young Adult Survey involves interviewing about 1,775 youths ages 15 to 20.

• The Young Adult Survey, grant component, is administered to approximately 4,365 youths age 21 and older.

During the field period, about 400 main NLSY79 interviews are validated to ascertain whether the interview took place as the interviewer reported and whether the interview was done in a polite and professional manner.

The round 24 questionnaire reflects a number of content changes recommended by experts in various social science fields. The round 24 main NLSY79 questionnaire includes a more extensive set of questions about volunteer activity and monetary donations to charitable organizations. The round 24 survey also will include retrospective questions on business ownership. This new section augments information previously collected in the survey by asking how many businesses respondents have owned since age 18 and collecting detailed information on the characteristics of up to ten businesses. Questions on estate planning and wills will be asked in round 24 to augment information previously obtained on health, asset accumulation, and retirement plans. Round 24 includes a series of questions on mortgage delinquencies and foreclosures. The questions cover the period since January 2007 and ask respondents whether they had been more than two months behind on mortgage payments, received a foreclosure notice, or lost property due to foreclosure. Round 24 includes a short series of questions on whether respondents were offered stock options by their employer, whether the option was offered before the respondent accepted the job, whether the option affected the respondent's decision to take the job, whether the option is tied to work performance, and whether the respondent has exercised or plans to exercise the option. Questions on assets will not be asked in this round. It was determined after Round 19 that an extended series of questions on assets is not necessary every survey round. The questions on political involvement included in Round 23 are not included for Round 24.

III. Desired Focus of Comments

The BLS is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Reinstatement, with change, of a previously approved collection for which approval has expired.

Agency: Bureau of Labor Statistics.

Title: National Longitudinal Survey of Youth 1979.

OMB Number: 1220-0109.

Affected Public: Individuals or households.

Form | Total respondents | Frequency | Total responses | Average time per response (minutes) | Estimated total burden (hours)
NLSY79 round 24 pretest | 100 | Biennially | 100 | 60 | 100
NLSY79 round 24 main survey | 7,600 | Biennially | 7,600 | 60 | 7,600
Round 24 validation interviews | 400 | Biennially | 400 | 6 | 40
Mother supplement (mothers of children under age 15) | ¹ 635 | Biennially | 800 | 20 | 267
Child supplement (under age 15) | 720 | Biennially | 720 | 31 | 372
Child self-administered questionnaire (ages 10 to 14) | 540 | Biennially | 540 | 30 | 270
Young adult survey (ages 15 to 20) | 1,775 | Biennially | 1,775 | 45 | 1,331
Young adult survey, grant component (age 21 and older) | 4,365 | Biennially | 4,365 | 52 | 3,783
TOTALS ² | 14,560 |  | 16,100 |  | 13,763
¹ The number of respondents for the Mother Supplement (635) is less than the number of responses (800) because mothers are asked to provide separate responses for each of the biological children with whom they reside. The total number of responses for the Mother Supplement (800) is more than the number for the Child Supplement (720) because the number of children completing the Child Supplement is lower due to age restrictions and nonresponse.
² The total number of 14,560 respondents across all the survey instruments is a mutually exclusive count that does not include: (1) The 400 reinterview respondents, who were previously counted among the 7,600 main survey respondents, (2) the 635 Mother Supplement respondents, who were previously counted among the main survey respondents, and (3) the 540 Child SAQ respondents, who were previously counted among the 720 Child Supplement respondents.

Total Burden Cost (capital/startup): $0.

Total Burden Cost (operating/maintenance): $0.

Comments submitted in response to this notice will be summarized and/or included in the request for Office of Management and Budget approval of the information collection request; they also will become a matter of public record.

Signed at Washington, DC, this 8th day of April 2009.
Cathy Kazanowski,
Chief, Division of Management Systems, Bureau of Labor Statistics.

[FR Doc. E9-8414 Filed 4-13-09; 8:45 am]

BILLING CODE 4510-24-P